DEPARTMENT OF STATE

[Public Notice:11168]

United States Passports Invalid for Travel to, in, or Through the Democratic People's Republic of Korea

AGENCY: Department of State.

ACTION: Notice of extension of passport travel restriction.

SUMMARY: On September 1, 2017, all United States passports were declared invalid for travel to, in, or through the Democratic People's Republic of Korea (DPRK) unless specially validated for such travel. The restriction was extended for one year in 2018 and 2019, and, if not renewed, the restriction is set to expire on August 31, 2020. This notice extends the restriction until August 31, 2021 unless extended or revoked by the Secretary of State.

DATES: The extension of the travel restriction is in effect on September 1, 2020.

FOR FURTHER INFORMATION CONTACT: Anita Mody, Bureau of Consular Affairs, Passport Services, Office of Legal Affairs, 202-485-6500.

SUPPLEMENTARY INFORMATION: On September 1, 2017, pursuant to the authority of 22 U.S.C. 211a and Executive Order 11295 (31 FR 10603), and in accordance with 22 CFR 51.63(a)(3), all United States passports were declared invalid for travel to, in, or through the Democratic People's Republic of Korea (DPRK) unless specially validated for such travel. The restriction was renewed on September 1, 2018 and again for another year effective September 1, 2019. If not renewed again, the restriction is set to expire on August 31, 2020.

The Department of State has determined that there continues to be serious risk to United States citizens and nationals of arrest and long-term detention representing imminent danger to their physical safety, as defined in 22 CFR 51.63(a)(3). Accordingly, all United States passports shall remain invalid for travel to, in, or through the DPRK unless specially validated for such travel under the authority of the Secretary of State. This extension to the restriction of travel to the DPRK shall be effective on September 1, 2020, and shall expire August 31, 2021 unless extended or revoked by the Secretary of State.

Dated: August 18, 2020.
Michael R. Pompeo,
Secretary of State.

[FR Doc. 2020-19167 Filed 8-28-20; 8:45 am]

BILLING CODE 4710-06-P